DEPARTMENT OF HEALTH AND HUMAN SERVICES

Centers for Disease Control and Prevention

Disease, Disability, and Injury Prevention and Control Special Emphasis Panel (SEP): Human Immunodeficiency Virus (HIV) Prevention Projects for Community Based Organizations, PS 10-1003, Initial Review

In accordance with Section 10(a)(2) of the Federal Advisory Committee Act (Pub. L. 92-463), the Centers for Disease Control and Prevention (CDC), announces the aforementioned meetings:

Time and Date:

8 a.m.-7 p.m., March 4, 2010 (Closed).

8 a.m.-7 p.m., March 5, 2010 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the initial review, discussion, and evaluation of applications received in response to “HIV Prevention Projects for Community Based Organizations, PS10-1003.” This meeting will be subsequent to the February 7-13, 2010 meeting published in the Federal Register on November 19, 2010, Volume 74, Number 222, Page 59985. A second meeting is necessary due to the number of applications received and unanticipated scheduling conflicts for a significant number of the appointed reviewers.

Contact Person for More Information: Barbara Stewart, Deputy Director, Extramural Programs, National Center for HIV, Hepatitis and Sexually Transmitted Diseases Prevention, 1600 Clifton Road, NE., Mail Stop E-60, Atlanta, Georgia 30333, Telephone (404)498-2273, E-mail BStewart@cdc.gov.

The Director, Management Analysis and Services Office, has been delegated the authority to sign Federal Register notices pertaining to announcements of meetings and other committee management activities, for both CDC and the Agency for Toxic Substances and Disease Registry.

Dated: February 3, 2010.
Elaine L. Baker,
Director, Management Analysis and Services Office,Centers for Disease Control and Prevention.

[FR Doc. 2010-2918 Filed 2-9-10; 8:45 am]

BILLING CODE 4163-18-P